DEPARTMENT OF LABOR

Office of the Secretary

Submission for OMB Review: Comment Request

June 7, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Survivor's Form for Benefits.

OMB Number: 1215-0069.

Form Number: CM-912.

Frequency: On occasion.

Type of Response: Reporting.

Affected Public: Individuals or households.

Estimated Number of Respondents: 2,000.

Estimated Number of Annual Responses: 2,000.

Estimated Average Response Time: 8 minutes.

Estimated Total Annual Burden Hours: 267.

Total Estimated Annualized capital/startup costs: $0.

Total Estimated Annual Costs (operating/maintaining systems or purchasing services): $704.

Description: The CM-912 is used to gather information from a beneficiary's survivor to determine if the survivor is entitled to benefits or the continuation of benefits.

Agency: Employment Standards Administration.

Type of Review: Extension without change of currently approved collection.

Title: Notice of Law Enforcement Officer's Injury or Occupational Disease (CA-721); Notice of Law Enforcement Officer's Death (CA-722).

OMB Number: 1215-0116.

Form Numbers: CA-721 and CA-722.

Frequency: On occasion.

Type of Response: Reporting.

Affected Public: State, Local, or Tribal Government.

Estimated Number of Respondents: 30.

Estimated Number of Annual Responses: 30.

Estimated Average Response Time: 60 minutes for the Form CA-721 and 90 minutes for the CA-722.

Estimated Total Annual Burden Hours: 40.

Total Annualized capital/startup costs: $0.

Total Annual Costs (operating/maintaining systems or purchasing services): $0.

Description: The CA-721 and CA-722 are used for filing claims for compensation for injury and death to non-Federal law enforcement officers under the provisions of 5 U.S.C. 8191 et seq. The forms provide the basic information needed to process the claims made for injury or death.

Agency: Employment Standards Administration.

Type of Review: Extension without change of currently approved collection.

Title: 29 CFR, Part 575—Waiver of Child Labor Provisions for Agricultural Employment of 10 and 11 Year Old Minors in Hand Harvesting of Short Season Crops.

OMB Number: 1215-0120.

Form Number: None.

Frequency: On occasion.

Type of Response: Reporting and Recordkeeping.

Affected Public: Farms.

Estimated Number of Respondents: 1.

Estimated Number of Annual Responses: 1.

Estimated Average Response Time: 4 hours.

Estimated Total Annual Burden Hours: 4.

Total Estimated Annualized capital/startup costs: $0.

Total Estimated Annual Costs (operating/maintaining systems or purchasing services): $0.

Description: Regulations 29 CFR part 575, in relevant part, sets forth the describes the information an employer or group of employers must submit when applying for a waiver of the youth employment provisions under FLSA section 13(c)(4). See 29 CFR 575.3-5. Regulations 29 CFR 575.8 specifies certain records employers must maintain.

Agency: Employment Standards Administration.

Type of Review: Extension without change of currently approved collection.

Title: 29 CFR Part 825, The Family and Medical Leave Act of 1993.

OMB Number: 1215-0181.

Form Numbers: WH-380 and WH-381.

Frequency: On occasion.

Type of Response: Reporting.

Affected Public: Business and other for-profit.

Estimated Number of Respondents: 391,000.

Estimated Number of Annual Responses: 15,058,850.

Estimated Average Response Time: 5 minutes for the Form WH-381 and 20 minutes for the WH-380.

Estimated Total Annual Burden Hours: 1,370,288.

Total Annualized capital/startup costs: $0.

Total Annual Costs (operating/maintaining systems or purchasing services): $11,915,480.

Description: The Family and Medical Leave Act of 1993 (FMLA) requires private sector employers of 50 or more employees, and public agencies to provide up to 12 weeks of unpaid, job-protected leave to “eligible” employees for certain family and medical reasons. Records are required so that the Department of Labor can determine employer compliance with FMLA. These recordkeeping requirements are necessary in order for the DOL to carry out its statutory obligation under section 106 of FMLA to investigate and ensure employer compliance. By requiring employers to maintain these records, the DOL is able to determine employer compliance. Because these collections involve third-party notifications between the employer and the employee, the WHD created optional Forms WH-380 and WH-381 to assist employees and employers in meeting their regulatory notification obligations under the FMLA. Form WH-380 allows employees who are requesting FMLA leave based on a serious health condition to satisfy a mandatory requirement to furnish a medical certification (when requested) from their health care provider, including second or third opinions and recertifications. See 29 CFR 825.306. Form WH-381 allows employers to satisfy mandatory requirements to provide employees taking FMLA-leave with written notice detailing specific expectations and obligations of the employee and explaining any consequences of a failure to meet these obligations. See 29 CFR 825.301(b). These collections are necessary to ensure that both employers and employees are aware of and can exercise their rights and meet their respective obligations under FMLA.

Agency: Employment Standards Administration.

Type of Review: Revision of currently approved collection.

Title: Energy Employees Occupational Illness Compensation Program Act Forms (Various).

OMB Number: 1215-0197.

Form Numbers: See below.

Frequency: On occasion.

Type of Response: Reporting.

Affected Public: Individuals or households; Business or other for-profit; and Federal Government.

Burden Estimate by Form Number
Form | Estimated number of annual responses | Average response time (hours) | Annual burden hours
EE-1 | 6,711 | 0.28 | 1,901
EE-2 | 14,331 | 0.35 | 5,016
EE-3 | 16,748 | 1.00 | 16,748
EE-4 | 4,187 | 0.50 | 2,094
EE-5A | 2,884 | 0.50 | 1,442
EE-5B | 500 | 0.50 | 250
EE-7 | 16,748 | 0.25 | 4,187
EE-7A | 2,311 | 0.25 | 578
EE-7B | 1,103 | 0.25 | 276
EE-8 | 968 | 0.08 | 81
EE-9 | 826 | 0.08 | 69
EE-10 | 100 | 0.08 | 8
EE-10A | 37 | 0.50 | 19
EE-12 | 4,000 | 0.33 | 1,333
EE-13 | 51 | 16.00 | 816
EE/EN-20 | 7,557 | 0.08 | 630
Total | 79,062 |  | 35,447

Total Annualized capital/startup costs: $0.

Total Annual Costs (operating/maintaining systems or purchasing services): $4,629.

Description: The information collected by these forms is used by Office of Worker Compensation Program claims examiners to determine eligibility for compensation. The information, with the medical evidence and other supporting documentation, is used to determine whether or not the claimant is entitled to compensation under Part B and/or E of Energy Employees Occupational Illness Compensation Program Act of 2000, as amended, 42 U.S.C. 7384 et seq.

Darrin A. King,
Acting Departmental Clearance Officer.

[FR Doc. E7-11491 Filed 6-13-07; 8:45 am]

BILLING CODE 4510-CH-P